DEPARTMENT OF THE INTERIOR

Bureau of Land Management

[LLWY910000.L16100000.XX0000]

Notice of Public Meeting; Wyoming Resource Advisory Council

AGENCY: Bureau of Land Management, Interior.

ACTION: Notice.

SUMMARY: In accordance with the Federal Land Policy and Management Act of 1976 and the Federal Advisory Committee Act of 1972, the U.S. Department of the Interior, Bureau of Land Management's (BLM) Wyoming Resource Advisory Council (RAC) will meet as indicated below.

DATES: Wednesday, July 11 (7:30 a.m.-5:00 p.m.) and Thursday, July 12 (7:30 a.m.-4 p.m.), 2012.

ADDRESSES: The Cody Hotel, 232 West Yellowstone Avenue, Cody, Wyoming.

SUPPLEMENTARY INFORMATION: This 10-member RAC advises the Secretary of the Interior on a variety of management issues associated with public land management in Wyoming. All RAC meetings are open to the public. Public comments will be accepted at the end of the second day for this meeting. Depending on the number of persons wishing to comment and the time available, the time for individual oral comments may be limited. The public may also submit written comments to the RAC.

On July 11, a field tour of the McCullough Peaks Herd Management Area will be followed by a panel discussion on the BLM's wild horse partnership with Friends of a Legacy and Marathon Oil, water projects, porcine zona pellucida and the overall wild horse program; a RAC business session; and a presentation on fire and fuels. On July 12, a field tour to North Fork/Rattlesnake Mountain will be followed by continued discussion of RAC business; an overview of the BLM Wyoming Wind River/Bighorn Basin District and Cody Field Office; and a travel management planning process discussion.

The public may attend the field tour portions of the agenda, but must provide their own transportation. High clearance vehicles are recommended.

FOR FURTHER INFORMATION CONTACT: Cindy Wertz, Wyoming Resource Advisory Council Coordinator, Wyoming State Office, 5353 Yellowstone, Cheyenne, WY 82009; telephone 307-775-6014; email cwertz@blm.gov. Persons who use a telecommunications device for the deaf may call the Federal Information Relay Service (FIRS) at 1-800-877-8339 to contact the above individual during normal business hours. The FIRS is available 24 hours a day, 7 days a week, to leave a message or question with the above individual. You will receive a reply during normal business hours.

Donald A. Simpson,
State Director.

[FR Doc. 2012-13782 Filed 6-6-12; 8:45 am]

BILLING CODE 4310-22-P